DEPARTMENT OF EDUCATION

Applications for New Awards: Personnel Development To Improve Services and Results for Children With Disabilities; Center To Support the Development of Effective Educators To Serve Students With Disabilities

AGENCY: Office of Special Education and Rehabilitative Services, Department of Education.

ACTION: Notice.

Overview Information

Personnel Development to Improve Services and Results for Children With Disabilities—Center To Support the Development of Effective Educators To Serve Students With Disabilities.

Notice inviting applications for new awards for fiscal year (FY) 2012.

Catalog of Federal Domestic Assistance (CFDA) Number: 84.325A.

DATES: Applications Available: August 2, 2012.

Deadline for Transmittal of Applications: September 4, 2012.

Full Text of Announcement

I. Funding Opportunity Description

Purpose of Program: The purposes of this program are to (1) help address State-identified needs for highly qualified personnel in special education, related services, early intervention, and regular education to work with infants, toddlers, and children with disabilities; and (2) ensure that those personnel have the necessary skills and knowledge, derived from practices that have been determined through scientifically based research and experience, to be successful in serving those children.

Priority: In accordance with 34 CFR 75.105(b)(2)(iv), this priority is from allowable activities specified in the statute (see sections 662 and 681 of the Individuals With Disabilities Education Act (IDEA)).

Absolute Priority: For FY 2012 and any subsequent year in which we make awards from the list of unfunded applicants from this competition, this priority is an absolute priority. Under 34 CFR 75.105(c)(3), we consider only applications that meet this priority.

This priority is: Center To Support the Development of Effective Educators To Serve Students With Disabilities.

Background:The purpose of this priority is to fund a cooperative agreement to support the establishment and operation of a Center to Support the Development of Effective Educators to Serve Students with Disabilities (Center). The Center will provide technical assistance (TA) to: (a) State educational agencies (SEAs) in reviewing and reforming certification or licensure standards, in collaboration with institutions of higher education (IHEs), local educational agencies (LEAs), and non-profit organizations with teacher and leader preparation programs(non-profit organizations), in order to ensure that these standards are derived from practices determined through evidence-based research and that they reflect the knowledge and skills necessary for teachers and leaders to be effective in serving students with disabilities in inclusive ¹ classrooms and school settings; (b) IHEs, LEAs, and non-profit organizations to help them, in collaboration with SEAs, to restructure and improve teacher and leader preparation programs ² in order to align program requirements with the reformed certification or licensure standards and ensure that program graduates have the knowledge and skills necessary to address the diverse needs of students with disabilities; and (c) SEAs and IHEs, LEAs, and non-profit organizations that are ready to evaluate and improve special education teacher preparation programs by using data on outcomes for students with disabilities in kindergarten through grade 12 (K-12) that are linked to data on special education teachers. Sources of the linked data would include, for example, statewide longitudinal data systems, other sources of objective third-party data, or district teacher evaluation systems. In 2010, America's schools educated just over 5.8 million students with disabilities, ages 6-21. Nearly 95 percent of these students spent part or all of their school day in general education classrooms; and 61 percent spent at least 80 percent of their school day in general education classrooms (www.IDEAdata.org). As students with disabilities spend an increasing amount of time in general education classrooms, all teachers and leaders must have the knowledge and skills necessary to address their diverse needs.

¹ For the purposes of this priority, “inclusive” or “inclusion” refers to an “ `active commitment to equity for all students' so as to `maximize the participation of all learners, by making learning opportunities relevant and high-quality.' ” (NIUSI Leadscape, 2011).

² These teacher and leader preparation programs include programs that prepare teachers, school principals, and assistant principals in general and special education from kindergarten through grade 12.

Meeting the diverse needs of students with disabilities in inclusive classrooms and school settings requires a complex combination of knowledge and skills, including the use of evidence-based practices (Blanton, Pugach, & Florian, 2011; Voltz, Sims, & Nelson, 2010). To address this need, organizations such as the Council of Chief State School Officers (CCSSO) and the Council for Exceptional Children (CEC) have developed model standards of essential knowledge and skills that they believe teachers need in order to customize learning and be effective in improving student achievement, including the achievement of students with disabilities. Furthermore, resource materials prepared by CCSSO's Interstate Assessment and Support Consortium (InTASC) recommend that SEAs, professional organizations, and teacher education programs take a systemic approach to using core teaching standards in developing policies and programs that prepare, license, support, and evaluate today's teachers.

Traditionally, SEAs have exerted influence over the operations and content of teacher and leader preparation programs through certification or licensure standards. Although the content of teacher and leader preparation programs is determined in part by an SEA's requirements for certification or licensure, the content also reflects the values and views of faculty in colleges of education and relevant disciplinary departments (e.g., special education, curriculum and instruction) (Committee on the Study of Teacher Preparation Programs in the United States, 2010).

Research suggests that aligning the curricula in teacher and leader preparation programs with State standards that reflect current knowledge and skills and the use of evidence-based practices will be more effective than revising standards alone (Augustine et al., 2009). Therefore, it is crucial that IHEs, LEAs, nonprofits, and SEAs collaborate to review current teacher and leader certification or licensure standards to determine if they reflect the knowledge and skills necessary for teachers and leaders to effectively teach students with disabilities.

While current literature suggests that cooperation between SEAs and IHEs, LEAs, and non-profit organizations is key to providing teachers and leaders with the critical knowledge and skills needed to improve student achievement (Blanton & Pugach, 2007; Darling-Hammond et al., 2005), few SEAs and IHEs, LEAs, and non-profit organizations regularly engage in these cooperative practices (Levine, 2005; Goe, 2009).

In addition to reforming State teacher and leader certification or licensure standards and integrating these revised standards into preparation programs, States need to ensure that the knowledge and skills teachers and leaders develop in preparation programs help to improve K-12 outcomes for students with disabilities. SEAs and IHEs, LEAs, and non-profit organizations must be able to evaluate the performance of all teachers, including special education teachers, by analyzing and using student outcome data. They must also be able to use that data to inform the development and reform of preparation programs that train teachers and leaders.

States are already involved in a number of efforts to use student outcome data to improve teacher preparation programs. Under the Higher Education Act of 1965, as amended (HEA), States annually report on the quality of teacher preparation programs and, using multiple sources of data, identify low-performing preparation programs. States participating in the State Fiscal Stabilization Fund program provided assurances that they would establish longitudinal data systems that included a teacher identifier system with the ability to match teachers to students. At this time, 45 States have reported that they have such a system in place. The remaining five States have until the end of 2013 to meet this requirement. Furthermore, the 12 States that received grants under Phases 1 and 2 of the Race to the Top (RTT) program have committed to measuring student growth for particular teachers and linking those data back to preparation programs. The 32 States and the District of Columbia (including the 12 RTT States with Phase 1 or Phase 2 awards) that as of July 19, 2012, have received waivers of certain requirements of the Elementary and Secondary Education Act of 1965, as amended (ESEA), have similarly committed to using student growth as one of multiple measures to evaluate the performance of teachers, though they have not necessarily committed to connecting those data back to preparation programs. Given these developments, many SEAs are positioned to begin using K-12 student outcome data to inform preparation programs (Gansle, Noell, Knox, & Schafer, 2010; Goldhaber & Liddle, 2011).

OSEP has a history of funding projects that support SEA and IHE collaboration to improve outcomes for students with disabilities. In 1997, OSEP funded a grant to support the development of licensing standards for beginning teachers who would be teaching students with disabilities.³ To further this work, in 2002, OSEP funded the Center for Improving Teacher Quality ⁴ to work with States on implementing the new licensure standards and to create models for improving teacher preparation, licensure standards, and professional development. From this work, a model emerged that described the critical role of SEAs and IHEs, LEAs, and non-profit organizations in redesigning preparation programs so that general and special education teachers are better prepared for their roles and responsibilities in classrooms with respect to students with disabilities (Blanton & Pugach, 2007).

³ The work was completed by the Interstate New Teacher Assessment and Support Consortium (InTASC), which was comprised of SEAs and national education organizations dedicated to the reform of the preparation, licensing, and ongoing professional development of teachers (see www.ccsso.org/resources/programs/interstate_teacher_assessment_consortium_(intasc).html).

⁴ The following Web site provides more information on the work of the Center for Improving Teacher Quality: http://aacte.org/Programs/Center-for-Improving-Teacher-Quality-CTQ.

Finally, OSEP has funded Special Education Preservice Program Improvement Grants ⁵ since 2007 to support the improvement and restructuring, through expansion or redesign, of K-12 special education teacher preparation programs to ensure that program graduates meet the highly qualified teacher requirements in IDEA and effectively serve students with high-incidence disabilities in inclusive classrooms and school settings. Many of these projects have incorporated inclusive practices so that their graduates are qualified to be licensed to teach both general and special education students. However, this program focused only on high-incidence disabilities and was limited to individual IHEs, LEAs, and non-profit organizations.

⁵ The following Web site provides further information on the work of these grants: http://ncipp.education.ufl.edu/325T.php.

In order to build on information and experience obtained through prior OSEP investments, we propose a priority for a center that will assist SEAs and IHEs, LEAs, and non-profit organizations to collaboratively develop State systems that ensure teachers and leaders have the necessary knowledge and skills, derived from practices that have been determined through evidence-based research, to be successful in serving the diverse needs of students with disabilities. We believe that by funding a center, we can have a broader, more systemic influence on a larger number of SEAs and IHEs, LEAs, and non-profit organizations.

Priority: The purpose of this priority is to fund a cooperative agreement to support the establishment and operation of a Center to Support the Development of Effective Educators to Serve Students with Disabilities (Center). The Center will provide TA to: (a) SEAs in reviewing and reforming certification or licensure standards, in collaboration with IHEs, LEAs, and non-profit organizations that operate teacher and leader preparation programs (non-profit organizations), in order to ensure that these standards are derived from practices determined through evidence-based research and that they reflect the knowledge and skills necessary for teachers and leaders to be effective in serving students with disabilities in inclusive classrooms and school settings; (b) IHEs, LEAs, and non-profit organizations, to help them in collaboration with SEAs, restructure and improve teacher and leader preparation programs in order to align them with the reformed certification or licensure standards, and ensure that program graduates have the knowledge and skills necessary to address the diverse needs of students with disabilities; and (c) SEAs and IHEs, LEAs, and non-profit organizations that are ready to evaluate and improve special education teacher preparation programs by using data on outcomes for students with disabilities in kindergarten through grade 12 (K-12) that are linked to data on special education teachers. Sources of the linked data would include, for example, statewide longitudinal data systems, other sources of objective third-party data, or district teacher evaluation systems.

Application Requirements. An applicant must include in its application—

(a) A logic model that depicts, at a minimum, the goals, activities, outputs, and outcomes of the proposed project. A logic model communicates how a project will achieve its outcomes and provides a framework for both the formative and summative evaluations of the project; Note: The following Web sites provide more information on logic models: www.researchutilization.org/matrix/logicmodel_resource3c.html and www.tadnet.org/model_and_performance.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for a summative evaluation to be conducted by an independent third party;

(e) A budget for attendance at the following:

(1) A one and one-half day kick-off meeting to be held in Washington, DC, after receipt of the award, and an annual planning meeting held in Washington, DC, with the OSEP Project Officer during each subsequent year of the project period.

Note: Within 30 days of the receipt of the award, a post-award teleconference must be held between the OSEP Project Officer and the grantee's Project Director or other authorized representative.

(2) A three-day Project Directors' Conference in Washington, DC, during each year of the project period.

(3) Three, two-day trips annually to attend Department briefings, Department-sponsored conferences, and other meetings, as requested by OSEP; and

(f) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities

(a) During the first six months of the project, conduct a comprehensive review of literature and available research to accomplish two purposes—

(1) To identify policies and practices that will assist SEAs in:

(i) Reviewing and reforming State certification or licensure standards for teachers and leaders to include current knowledge and skills, including the use of evidence-based practices, needed to effectively serve students with disabilities in inclusive classrooms and school settings;

(ii) Coordinating with IHEs, LEAs, and non-profit organizations to facilitate the integration of the evidence-based content to meet those reformed certification or licensure standards within their preparation programs; and

(iii) Analyzing and using K-12 outcome data (e.g., data from statewide longitudinal data systems) for students with disabilities to evaluate and improve the preparation programs of the K-12 students' teachers and leaders.

(2) To identify effective strategies for achieving institutional change and reform in IHEs, LEAs, and non-profit organizations. Specific focus must be placed on strategies for restructuring and improving teacher or leader preparation programs and strategies for instituting change in a variety of IHEs (e.g., public, private, large, small, and diverse). At a minimum, this review must include:

(i) The literature on restructuring and improving the preparation of teachers and leaders for meeting the diverse needs of students with disabilities in inclusive classrooms and school settings, and with a particular focus on relevant coursework and clinical learning opportunities.

(ii) Information on effective practices from projects funded under CFDA 84.325T (Special Education Preservice Program Improvement Grants) in fiscal years 2007-2011 to determine strategies for restructuring and improving preparation programs. The Center shall review information available from these projects to identify:

(A) Key strategies used to plan and implement a restructured preparation program, including the processes used to restructure and improve curricula, the processes used to restructure and improve clinical learning opportunities, and strategies used to involve key personnel from IHEs, LEAs, and non-profit organizations and their role in program restructuring and improvement;

(B) Examples of how education departments within the IHE have collaborated with other departments (or LEAs and non-profit organizations have collaborated with IHEs) to improve teacher preparation in “core academic subjects” as defined in section 9101(11) of the Elementary and Secondary Education Act of 1965, as amended (ESEA); ⁶

⁶ For the purposes of this priority, the term “core academic subjects” means English, reading or language arts, mathematics, science, foreign languages, civics and government, economics, arts, history, and geography.

(C) Training and coaching strategies to ensure that preparation program faculty use existing high-quality training resources on evidence-based practices, such as those developed by the National Center on Response to Intervention (see www.rti4success.org) and Doing What Works (see www.dww.ed.gov);

(D) Strategies to integrate into the teacher and leader preparation program evidence-based practices and extended clinical learning opportunities that support teaching and school leadership in inclusive settings; and

(E) Effective methods for evaluating program outcomes, including the effect of the implementation of the restructured program on the quality of services provided by program graduates, as well as effective methods to collect, analyze, and use data, including outcome data for K-12 students with disabilities, to improve instructional practices and interventions for teacher and leader preparation programs.

(b) Using the knowledge gained in the comprehensive review of literature, develop a model plan that incorporates the key components and strategies necessary to restructure or redesign teacher and leader preparation programs so that graduates have the knowledge and skills necessary to address the diverse needs of students with disabilities in inclusive classrooms and school settings. The model plan must then be customized for the unique attributes of an IHE, LEA, or non-profit.

(c) Using the knowledge gained in the comprehensive review of literature, develop a model needs assessment to identify areas in which SEAs and IHEs, LEAs, and non-profit organizations require technical assistance consistent with the purpose of this priority. Areas may include strategies for incorporating knowledge and skills derived from evidence-based practices into certification or licensure standards; capacity of the State to analyze and use student outcome data to evaluate and improve preparation program; instructional delivery strategies, including effective strategies for distance education; course content on evidence-based practices; and support provided to the teacher and leader candidates (e.g., mentoring and supervision of clinical learning opportunities).

(d) Using the knowledge gained in the comprehensive review of literature, recommend policies and practices that can be incorporated into the Center's TA activities. Clearly articulate the strength (i.e., internal validity) and the breadth (i.e., external validity) of the research supporting the policies and practices described in the report.

(e) Disseminate the findings of the Knowledge Development Activities described in paragraph (a) of this section.

(f) Make the results of the literature review accessible on the Internet to interested parties, including stakeholders from SEAs, IHEs, LEAs, and non-profit organizations.

Technical Assistance and Dissemination (TA&D) Activities

(a) In years one through four, annually identify a minimum of five SEAs, with at least three cooperating IHEs, LEAs, or non-profit organizations within each State, to develop and implement plans to receive intensive TA from the Center. The application must include a description of both the process and the selection criteria that the Center proposes to use to identify the SEAs and IHEs, LEAs, and non-profit organizations that will receive intensive TA. The Center must obtain approval from OSEP before finalizing the selection criteria and selecting the SEAs. Factors for consideration in recruiting and selecting SEAs to receive intensive TA must include, but are not limited to, an SEA's—

(i) Intent to reform teacher and leader certification or licensure standards to ensure that the standards address the knowledge and skills needed to teach students with disabilities in inclusive classrooms and school settings;

(ii) Procedures for certification or licensure of teachers and leaders;

(iii) Priorities and initiatives to support improved preparation programs for teachers and leaders;

(iv) Current capacity and infrastructure for coordinating work with IHEs, LEAs, and non-profit organizations;

(v) Commitment of its regular and special education leadership to coordinate efforts to work in partnership with at least three IHEs, LEAs, or non-profit organizations on their certification or licensure standards reform process;

(vi) Demonstrated commitment from colleges of education, schools of education, or other preparation programs located in or operated by at least three IHEs, LEAs, or non-profit organizations within the State to restructure and improve their teacher and leader preparation program and align it with reformed certification or licensure standards so that teachers and leaders have the knowledge and skills necessary to address the diverse needs of students with disabilities, especially those in inclusive classrooms and school settings. The criteria that the Center may use to determine the IHEs, LEAs, and non-profit organizations to receive TA include, but are not limited to, factors such as the composition and size of a university system or program, enrollment, and type of preparation programs (i.e., teacher or leader); and

(vii) Capacity to use K-12 outcome data for students with disabilities to improve its special education teacher preparation programs.

(b) Using the models and plan developed under paragraphs (b) and (c) in the Knowledge Development Activities section, conduct a needs assessment with each SEA and IHE, LEA, or non-profit organization that is to receive TA as described in the Technical Assistance and Dissemination Activities section of this notice to determine areas where TA is needed most. Results of the needs assessment must be used in planning TA to the SEA and designing professional development training for preparation program faculty at each identified IHE, LEA, or non-profit.

The following TA&D activities are intended to be carried out collaboratively with the Center, SEAs, and IHEs, LEAs, and non-profit organizations; however, for clarification purposes the remainder of this section is divided into three parts specific to the recipient of the TA.

SEA TA&D Activities

(a) Identify a core team of SEA personnel responsible for collaborating with the IHEs, LEAs, and non-profit organizations and the Center to lead the teacher and leader certification or licensure review and reform efforts.

(b) Design a TA plan with the core team of SEA personnel that describes the goals, activities, outputs, and outcomes expected as a result of the certification or licensure review and reform effort. The TA plan must include a review and evaluation of current SEA teacher and leader certification or licensure standards and how the SEA will collaborate with the IHEs, LEAs, and non-profit organizations on any reforms to the standards. Reformed teacher and leader certification or licensure standards must reflect current knowledge and skills derived from practices that have been determined through evidence-based research to effectively serve students with disabilities in inclusive classrooms and school settings.

(c) Develop an evaluation plan that must include a description of how the Center will work with the SEA core team to—

(1) Measure the extent to which evidence-based practices are incorporated in the revised certification or licensure standards;

(2) Collect and analyze K-12 outcome data for students with disabilities linked to the preparation program graduates to inform and improve preparation programs; and

(3) Use the results from the evaluation to inform and validate changes to the teacher and leader certification or licensure standards made as a result of the reform efforts.

IHE, LEA, or Non-Profit Organization TA&D Activities

(a) Identify a core team of faculty from each preparation program that will be responsible for collaborating with the core team of SEA personnel and the Center to build capacity of all teacher and leader education faculty at their IHE, LEA, or non-profit to implement the restructured and improved program that is aligned with reformed certification or licensure standards.

(b) Design a TA plan with the core team of faculty that describes the goals, activities, outputs, and outcomes expected as a result of the restructuring and improvement efforts. The TA plan must also include a clear plan for evaluating each IHE's, LEA's, or non-profit organization's program outcomes. The evaluation plan must include a description of how the Center will work with the core team to—

(1) Assess the extent to which evidence-based practices are integrated within the program;

(2) Collect and analyze data on program faculty members' implementation of the restructured program;

(3) Collect and analyze data on teachers' and leaders' competencies prior to their exiting the restructured program;

(4) Collect and analyze K-12 outcome data for students with disabilities to determine the quality of services provided by program graduates; and

(5) Use the results from the evaluation to inform and validate changes to the restructured program.

(c) Provide TA on effective strategies and methods for integrating evidence-based practices into the curricula of preparation programs. Activities related to TA with IHEs, LEAs, and non-profit organizations must be planned and implemented in collaboration with Department-funded centers that support IHEs, LEAs, and non-profit organizations in the preparation of effective teachers and leaders.

General TA&D Activities

(a) Provide a continuum of general TA and dissemination activities (e.g., managing Web sites, listservs, and communities of practice; holding forums and training institutes), including—

(1) Supporting and maintaining a password-protected, Web-based system accessible to all SEA and IHE, LEA, or non-profit core team members for sharing information, documents, presentations, and resources (e.g., State certification or licensure documents, course syllabi, lesson plans, and video clips) across the SEAs and IHEs, LEAs, and non-profit organizations receiving TA. At a minimum, this Web-based resource must include the following: Contact information for each core team (both SEA and IHE, LEA, or non-profit organization members); a description of the SEA's current certification or licensure standards; a description of the TA plans for reviewing and reforming the SEA's certification or licensure standards; a description of the IHE's existing preparation program; and the goals, activities, outputs, and outcomes expected as a result of the restructuring efforts.

(2) Plan and implement activities, which could include webinars, meetings, video conferences, and managing Web sites for researchers, policymakers, administrators, practitioners, and other appropriate stakeholders, to exchange information on building State systems for improving educator effectiveness. The focus of these activities must include reforming State certification or licensure standards, implementing reformed standards within preparation programs, and using K-12 outcome data for students with disabilities for continuous feedback to preparation programs on how well their teachers and leaders effectively educate students with disabilities in inclusive classrooms and school settings.

(3) Coordinating with the National Center to Inform Policy and Practice in Special Education Professional Development (NCIPP) during the last six months of NCIPP's project period to transfer information, resources, and TA support materials for the Special Education Preservice Program Improvement Grants (CFDA 84.325T) from NCIPP's Web site to the Center's Web site. This coordination will archive and disseminate knowledge gained from the Special Education Preservice Program Improvement Grants.

(4) Maintain a Web site that meets government or industry-recognized standards for accessibility and that links to the Web site operated by the Technical Assistance Coordination Center (TACC).

(5) Prepare and disseminate reports, briefs, and other materials, including publications in peer-reviewed journals, related to the purposes of this priority and related topics as requested by OSEP for specific audiences, including State licensing agencies, IHEs, LEAs, and non-profit organizations with teacher and leader preparation programs, policymakers, and researchers.

(6) Prior to developing any new product (e.g., document, video clips, Web-based resources, etc.) related to the purposes of this priority, submit a proposal for the product to the TACC database for approval from the OSEP Project Officer. The development of new products should be consistent with the product definition and guidelines posted on the TACC Web site (www.tadnet.org).

Leadership and Coordination Activities

(a) Develop collaborative partnerships with professional organizations that promote effective preparation of teachers and leaders (e.g., the American Association of Colleges of Teacher Education, CCSSO, CEC, the National Board for Professional Teaching Standards, the National Association of Elementary School Principals, the National Association of Secondary School Principals, the Council for the Accreditation of Educator Preparation, the National Council for Accreditation of Teacher Education and Teacher Education Accreditation Council, and the National Association of State Directors of Special Education). Partnership activities developed under this section must be coordinated with Department-funded centers that support IHEs, LEAs, and non-profit organizations in the preparation of effective teachers and leaders. The Center, in consultation with these partners, must—

(1) Establish and coordinate a network of experts to provide TA to the SEAs and IHEs, LEAs, and non-profit organizations receiving intensive TA on the identified areas of need; and

(2) Develop and disseminate tools that are designed to assist SEAs and IHEs, LEAs, and non-profit organizations to address their identified needs.

(b) Consult with a group of persons, including representatives from SEA, IHE, and LEA personnel involved with reforming or implementing certification or licensure standards; IHE faculty and deans of schools or colleges of education involved with preparation programs for regular and special education teachers; individuals with disabilities or parents of students with disabilities; project directors of OSEP-funded State Personnel Development Grants; statewide longitudinal data systems directors and researchers; the partners identified in paragraph (a) of this section; and Technical Assistance Centers, as appropriate on the activities and outcomes of the Center and solicit programmatic support and advice from various representatives in the group, as appropriate. The Center may convene meetings, whether in person, by phone or other means, for this purpose, or may consult with group participants individually. The Center must identify the members of the group to OSEP within eight weeks after receipt of the award.

(c) Communicate and collaborate, on an ongoing basis, with other relevant projects funded by the U.S. Department of Education. This collaboration could include the joint development of products, the coordination of TA services, and the planning and carrying out of TA meetings and events.

(d) Participate in, organize, or facilitate communities of practice (CoPs) that align with the needs of the Center's target audience. CoPs should align with the Center's objectives to support discussions and collaboration among key stakeholders. The following Web site provides more information on CoPs: www.tadnet.org/communities.

(e) Prior to developing any new product, submit a proposal for the product to the TACC database for approval from the OSEP Project Officer. The development of new products should be consistent with the product definition and guidelines posted on the TACC Web site (www.tadnet.org).

(f) Contribute, on an ongoing basis, updated information on the Center's approved and finalized products and services to the TACC database.

(g) Coordinate with the TACC to develop an efficient and high-quality dissemination strategy that reaches broad audiences.

(h) Maintain ongoing communication with the OSEP Project Officer, including reporting on the impact of coordination efforts, through monthly phone and email communication.

Fourth and Fifth Years of the Project:In deciding whether to continue funding the Center for the fourth and fifth years, the Secretary will consider the requirements of 34 CFR 75.253(a), and in addition—

(a) The recommendation of a review team consisting of experts selected by the Secretary. This review will be conducted during a one-day intensive meeting in Washington, DC that will be held during the last half of the second year of the project period;

(b) The timeliness and effectiveness with which all requirements of the negotiated cooperative agreement have been or are being met by the Center; and

(c) The quality, relevance, and usefulness of the Center's activities and products, and the degree to which the Center's activities and products have contributed to changed practice and improved outcomes for students with disabilities and students at risk of a disability.

References:

Augustine, C., Gonzalez, G., Ikermoto, G., Russell, J., Zellman, G., Constant, L., Armstrong, J., et al. (2009). Improving School Leadership: The Promise of Cohesive Leadership Systems. Santa Monica, CA: RAND Corporation. Retrieved from www.rand.org/pubs/monographs/MG885.

Blanton, L., & Pugach, M. (2007). Collaborative programs in general and special teacher education: An action guide for higher education and state policymakers. Washington, DC: Council of Chief State School Officers.

Blanton, L., Pugach, M., & Florian, L. (2011). Preparing General Education Teachers to Improve Outcomes for Students with Disabilities. Retrieved from http://aacte.org/pdf/Publications/Reports_Studies/AACTE%20NCLD%20Policy%20Brief%20May%202011.pdf.

Committee on the Study of Teacher Preparation Programs in the United States; National Research Council (2010). Preparing teachers: building evidence for sound policy. Washington, DC: The National Academies Press.

Darling-Hammond, L., Pacheco, A., Michelli, N., LePage, P., Hammerness, K., & Youngs, P. (2005). Implementing curriculum renewal in teacher education: Managing organizational and policy change. In Preparing teachers for a changing world: What teachers should learn and be able to do (pp. 442-479). San Francisco, CA: Wiley.

Gansle, K. A., Noell, G. H., Knox, R. M., & Schafer, M. J. (2010). Value Added Assessment of Teacher Preparation in Louisiana: 2005-2006 to 2008-2009. Retrieved from http://regents.louisiana.gov/assets/docs/TeacherPreparation/2010VATechnical082610.pdf.

Goe, L. (2009). The Equitable Distribution of Teachers: Strategies and Results. In Goe, L. (Ed.), America's Opportunity: Teacher Effectiveness and Equity in K-12 Classrooms (p.78). Retrieved from www.tqsource.org/publications/2009TQBiennial/2009BiennialReport.pdf.

Goe, L., & Coggshall, J. (2007). The teacher preparation teacher practices student outcomes relationship in special education: Missing links and new connections. Washington, DC: National Comprehensive Center for Teacher Quality.

Goldhaber, D., & Liddle, S. (2011). The Gateway to the Profession: Assessing Teacher Preparation Programs Based on Student Achievement. Seattle, WA: Center for Education Data & Research.

Levine, A. (2005). Educating school leaders. Education Schools Project Washington, DC. Retrieved from www.edschools.org/reports_leaders.htm.

Voltz, P.L., Sims, M.J., & Nelson, B. (2010). Connecting Teachers, Students, & Standards: Strategies for Success in Diverse and Inclusive Classrooms. Alexandria, VA: ASCD.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1462 and 1481.

Applicable Regulations: (a) The Education Department General Administrative Regulations (EDGAR) in 34 CFR parts 74, 75, 77, 79, 80, 81, 82, 84, 86, 97, 98, and 99. (b) The Education Department debarment and suspension regulations in 2 CFR part 3485. (c) The regulations for this program in 34 CFR part 304.

Note: The regulations in 34 CFR part 79 apply to all applicants except federally recognized Indian tribes.

Note: The regulations in 34 CFR part 86 apply to institutions of higher education only.

II. Award Information

Type of Award: Cooperative agreement.

Estimated Available Funds: $5,000,000.

Maximum Awards: We will reject any application that proposes a budget exceeding $5,000,000 for a single budget period of 12 months. The Assistant Secretary for Special Education and Rehabilitative Services may change the maximum amount through a notice published in the Federal Register.

Estimated Number of Awards: 1.

Note: The Department is not bound by any estimates in this notice.

Project Period: Up to 36 months with the potential for an additional 24 months based on performance.

Applications must include plans for both the 36-month award and the 24-month extension.

III. Eligibility Information

1. Eligible Applicants: SEAs; LEAs, including public charter schools that are considered LEAs under State law; IHEs; other public agencies; private nonprofit organizations; outlying areas; freely associated States; Indian tribes or tribal organizations; and for-profit organizations.

2. Cost Sharing or Matching: This program does not require cost sharing or matching.

3. Other: General Requirements—

(a) The projects funded under this program must make positive efforts to employ and advance in employment qualified individuals with disabilities (see section 606 of IDEA).

(b) Each applicant and grant recipient funded under this program must involve individuals with disabilities or parents of individuals with disabilities ages birth through 26 in planning, implementing, and evaluating the project (see section 682(a)(1)(A) of IDEA).

IV. Application and Submission Information

1. Address to Request Application Package: You can obtain an application package via the Internet, from the Education Publications Center (ED Pubs), or from the program office.

To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. Fax: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.325A.

To obtain a copy from the program office, contact the person listed under FOR FURTHER INFORMATION CONTACT in section VII of this notice.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition. Page Limit: The application narrative (Part III of the application) is where you, the applicant, address the selection criteria that reviewers use to evaluate your application. You must limit Part III to the equivalent of no more than 50 pages, using the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, you must include all of the application narrative in Part III.

We will reject your application if you exceed the page limit; or if you apply other standards and exceed the equivalent of the page limit.

3. Submission Dates and Times:

Applications Available: August 2, 2012.

Deadline for Transmittal of Applications: September 4, 2012.

Applications for grants under this competition may be submitted electronically using the Grants.gov Apply site (Grants.gov), or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, Central Contractor Registry, and System for Award Management: To do business with the Department of Education, you must—

a. Have a Data Universal Numbering System (DUNS) number and a Taxpayer Identification Number (TIN);

b. Register both your DUNS number and TIN with the Central Contractor Registry (CCR)—and, after July 24, 2012, with the System for Award Management (SAM), the Government's primary registrant database;

c. Provide your DUNS number and TIN on your application; and

d. Maintain an active CCR or SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR or SAM registration process may take five or more business days to complete. If you are currently registered with the CCR, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition may be submitted electronically or in paper format by mail or hand delivery.

a. Electronic Submission of Applications.

We are participating as a partner in the Governmentwide Grants.gov Apply site. The Center to Support the Development of Effective Educators to Serve Students with Disabilities, CFDA number 84.325A, is included in this project. We request your participation in Grants.gov.

If you choose to submit your application electronically, you must use the Governmentwide Grants.gov Apply site at www.Grants.gov. Through this site, you will be able to download a copy of the application package, complete it offline, and then upload and submit your application. You may not email an electronic copy of a grant application to us.

You may access the electronic grant application for the Center to Support the Development of Effective Educators to Serve Students with Disabilities, CFDA number 84.325A at www.Grants.gov. You must search for the downloadable application package for this program by the CFDA number. Do not include the CFDA number's alpha suffix in your search (e.g., search for 84.325, not 84.325A).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address: U.S. Department of Education, Application Control Center, Attention: (CFDA Number 84.325A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.325A), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: (a) We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

(b) In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors:

In the past, the Department has had difficulty finding peer reviewers for certain competitions because so many individuals who are eligible to serve as peer reviewers have conflicts of interest. The Standing Panel requirements under section 682(b) of IDEA also have placed additional constraints on the availability of reviewers. Therefore, the Department has determined that, for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. For purposes of this priority, the Center will use these measures, which focus on the extent to which projects provide high-quality products and services, the relevance of project products and services to educational and early intervention policy and practice, and the use of products and services to improve educational and early intervention policy and practice. Grantees will be required to report information on their project's performance in annual reports to the Department (34 CFR 75.590).

VII. Agency Contact

FOR FURTHER INFORMATION CONTACT: Bonnie Jones, U.S. Department of Education, 400 Maryland Avenue SW., room 4114-1, Potomac Center Plaza (PCP), Washington, DC 20202-2600. Telephone: (202) 245-7395.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 30, 2012.
Alexa Posny,
Assistant Secretary for Special Education and Rehabilitative Services.

[FR Doc. 2012-18906 Filed 8-1-12; 8:45 am]

BILLING CODE 4000-01-P